SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before October 23, 2000.

ADDRESSES: Send all comments regarding whether this information collection is necessary for the proper performance of the function of the agency, whether the burden estimate is accurate, and if there are ways to minimize the estimated burden and enhance the quality of the collection, to Jihoon Kim, Financial Analyst, Office of Financial Assistance, Small Business Administration, 409 3rd Street, S.W., Suite 8300.

FOR FURTHER INFORMATION CONTACT: Jihoon Kim, Financial Analyst, 202-205-6024 or Curtis B. Rich, Management Analyst, 202-205-7030.

SUPPLEMENTARY INFORMATION:

Title: “Secondary Participation Guaranty Certification Agreement”.

Form No: 1086.

Description of Respondents: SBA Participating Lenders.

Annual Responses: 12,500.

Annual Burden: 46,875.

ADDRESSES: Send all comments regarding whether this information collection is necessary for the proper performance of the function of the agency, whether the burden estimate is accurate, and if there are ways to minimize the estimated burden and enhance the quality of the collection, to Joan Bready, Business Development Specialist, Office Small Business Development Centers, Small Business Administration, 409 3rd Street, S.W., Suite 8300.

FOR FURTHER INFORMATION CONTACT: Joan Bready, Business Development Specialist, 202-205-6024, or Curtis B. Rich, Management Analyst, 202-205-7030.

SUPPLEMENTARY INFORMATION:

Title: “SBDC Counseling Record”.

Form No: 1062.

Description of Respondents: Small Business Development Center Counselors.

Annual Responses: 1,150,000.

Annual Burden: 115,000.

ADDRESSES: Send all comments regarding whether this information collection is necessary for the proper performance of the function of the agency, whether the burden estimate is accurate, and if there are ways to minimize the estimated burden and enhance the quality of the collection, to George Price, Director, Marketing Research, Small Business Administration, 409 3rd Street, SW Suite 7450.

FOR FURTHER INFORMATION CONTACT: George Price, Director, 202-205-7124, or Curtis B. Rich, Management Analyst, 202-205-7030.

SUPPLEMENTARY INFORMATION:

Title: “Voluntary Customer Surveys in Accordance with E.O. 12862”.

Form No: N/A.

Description of Respondents: Contractors.

Annual Responses: 28,538.

Annual Burden: 4,367.

Jacqueline White,
Chief, Administrative Information Branch.

[FR Doc. 00-21479 Filed 8-22-00; 8:45 am]

BILLING CODE 8025-01-P